DEPARTMENT OF THE INTERIOR

National Park Service

National Register of Historic Places; Notification of Pending Nominations and Related Actions

Nominations for the following properties being considered for listing or related actions in the National Register were received by the National Park Service before February 20, 2010. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by March 19, 2010.

J. Paul Loether,
Chief, National Register of Historic Places/National Historic Landmarks Program.

ARIZONA

Coconino County

Flagstaff Southside Historic District, (Flagstaff MRA (AD)) S. of downtown bordered by Route 66 and Santa Fe Railroad, Rio de Flag, and Northern Arizona University, Flagstaff, 10000107

Maricopa County

Arizona Army National Guard Arsenal, 5636 E. McDowell Rd., M5320, Phoenix, 10000108

Pima County

Tumamoc Hill Archeological District, The, 1675 W. Anklam Rd/NE corner Greasewood Rd & 22nd St., Tucson, 10000109

CALIFORNIA

Alameda County

California Cotton Mills Co. Factory, 1091 Calcot Pl., Oakland, 10000119

Los Angeles County

Bradbury House, 102 Ocean Way, Los Angeles, 10000110

Placer County

El Toyon, 211 Brook Rd, Auburn, 10000118

San Francisco County

Geneva Office Building and Power House, 2301 San Jose Ave., San Francisco, 10000111

Temple Sherith Israel, 2266 California St., San Francisco, 10000114

San Luis Obispo County

William Shipsey House, 1266 Mill St, San Luis Obispo, 10000115

San Mateo County

Southern Pacific Railroad Bayshore Roundhouse, Jctn. of Industrial Way and Bayshore Ave., Brisbane, 10000113

GEORGIA

Fulton County

Alexander, Cecil and Hermione, House, 2232 Mt. Paran Rd, N.W., Atlanta, 10000116

INDIANA

Carroll County

Delphi Courthouse Square Historic District, Roughly bounded by Monroe, s. side of Main, w. side of Market and Indiana Sts., Delphi, 10000120

Hendricks County

Plainfield Historic District, Roughly bounded by Lincoln St to the N; SE St. to the E; Ash St. to the S.; and S. Mill St to the W., Plainfield, 10000121

Henry County

Middletown Commercial Historic District, The intersection of Fifth and Locust Sts. stretching apprx. 125 ft. N. and 180 ft. S. of Locust and one block W., Middletown, 10000122

Huntington County

North Jefferson Street Historic District, Roughly bounded by W. Park Dr. and College, Madison, Collins, Oak, Stephen, and Buchanan Sts., Huntington, 10000123

Lake County

Forest-Ivanhoe Residential Historic District, (Historic Residential Suburbs in the United States, 1830-1960 MPS) Roughly bounded by 172nd Pl., E. side of Forest Ave. S to its end, and the Little Calumet River, Hammond, 10000124

Marion County

Emerson Heights Historic District, (Historic Residential Suburbs in the United States, 1830-1960 MPS) Roughly bounded by Emerson Ave., Linwood Ave., E. 10th and E. Michigan Sts., Indianapolis, 10000125

Noble County

Jefferson Union Church and Sweet Cemetery, Address Restricted Albion, 10000126

Orange County

Jenkins Place, 448-488 Liberty Rd., Orleans, 10000127

Randolph County

Windsor Mound, Address Restricted Parker City, 10000128

IOWA

Polk County

St. Paul's Episcopal Church, 815 High St., Des Moines, 10000129

MINNESOTA

Hennepin County

United States Post Office, 212 3rd Ave. S., Minneapolis, 10000130

MISSISSIPPI

Hinds County

Castle Crest, Address Restricted Jackson, 10000131

MISSOURI

St. Louis County

Pundt Brothers-Garavaglia Grocery Buildings, (South St. Louis Historic Working and Middle Class Streetcar Suburbs MPS) 2857 Lafayette Ave., Saint Louis, 10000117

MONTANA

Custer County

Northern Pacific Railway Depot, 500 Pacific Ave, Miles City, 10000132

Hill County

Kiwanis Meeting Hall, 17863 Beaver Creek Rd., Havre, 10000133

NEBRASKA

Antelope County

Neligh Mill, Irregular Tracks in Block 22, Original Town, Neligh and the N1/2 of the SE1/4 of Section 20, T25N, R6W, Neligh, 10000134

NEW YORK

Essex County

Willsboro School, The, 10 Gilliland Lane (formerly 29 School St), Willsboro, 10000135

Kings County

Parkway Theatre, 1768 St. John's Pl., Brooklyn, 10000136

Orange County

Newburgh Colored Burial Ground, Broadway & Robinson Ave. (NY Rte. 9W), City of Newburgh, 10000137

NORTH DAKOTA

Burleigh County

Bismarck Cathedral Area Historic District (2nd Boundary Increase), 104,106,112,115,116,120 E Ave B & 523 N 1st St (Remove 316,320 W Ave A & 510 N Washington St), Bismarck, 10000138

McLean County

Ingersoll School, 11 mi N on Alt 200, R. 2 mi on Hwy 200, turn R for.4 mi on gravel, Washburn, 10000139

SOUTH CAROLINA

Horry County

Conway Downtown Historic District (Boundary Increase), (Conway MRA) Portions of Main St, 3rd Ave, 4th Ave, Laurel St, Conway, 10000140

TENNESSEE

Davidson County

Hall-Harding-McCampbell House, 305 Kent Rd., Nashville, 10000141

Robertson County

Strickland Place Farm, Historic Family Farms in Middle Tennessee MPS) 7724-7726 Hwy 76 E, White House, 10000142

TEXAS

Cameron County

Brownsville City Cemetery and Hebrew Cemetery, Bound by E. 5th St., Madison St., E 2nd St., and Town Resaca, Brownsville, 10000143

Dallas County

Gulf Oil Distribution Facility, 501 Second Ave, Dallas, 10000144

Potter County

McMillen Apartments, 1320 S. Fillmore, Amarillo, 10000145

VIRGINIA

King and Queen County

Newington Archaeological Site, 697 Frazier Ferry Rd, King and Queen Courthouse, 10000146

Tazewell County

Tazewell Avenue Historic District, Tazewell Ave, Fairfax Ave, Front St., Second St., Third St., & Fourth St, Richlands, 10000147

Winchester Independent City

The Triangle Diner, (Diners of Virginia MPS) 27 W. Gerrard St., Winchester, 10000148

Request for REMOVAL has been made for the following resources:

NORTH DAKOTA

Ward County

Minot Commercial Historic District, 216 3rd Ave, Minot, 86002823

Request for BOUNDARY DECREASE has been made for the following resources:

TENNESSEE

Montgomery County

Bethlehem Methodist Church and Cemetery (Boundary Decrease), Gholson Rd., W side, about 0.5 mi. S of the jct. with Grafton Rd., Clarksville, 94000576

[FR Doc. 2010-4451 Filed 3-3-10; 8:45 am]

BILLING CODE 4312-51-P